DEPARTMENT OF TRANSPORTATION

Federal Aviation Administration

14 CFR Part 39

[Docket No. 2002-NM-106-AD; Amendment 39-13326; AD 2003-20-08]

RIN 2120-AA64

Airworthiness Directives; Boeing Model 747SP and 747SR; 747-100B, -200B, -200C, -200F, -300, -400, and -400D; and 767-200 and -300 Series Airplanes

AGENCY: Federal Aviation Administration, DOT.

ACTION: Final rule; request for comments.

SUMMARY: This amendment adopts a new airworthiness directive (AD), applicable to certain Boeing transport category airplanes. This action requires inspection of the attachment of the shoulder restraint harness to the mounting bracket on certain observer and attendant seats to determine if a C-clip is used in the attachment, and corrective action, if necessary. This action is necessary to prevent detachment of the shoulder restraint harness of the attendant or observer seat from its mounting bracket during service, which could result in injury to the occupant of the seat. This action is intended to address the identified unsafe condition.

DATES: Effective October 21, 2003.

The incorporation by reference of certain publications listed in the regulations is approved by the Director of the Federal Register as of October 21, 2003.

Comments for inclusion in the Rules Docket must be received on or before December 5, 2003.

ADDRESSES: Submit comments in triplicate to the Federal Aviation Administration (FAA), Transport Airplane Directorate, ANM-114, Attention: Rules Docket No. 2002-NM-106-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-106-AD” in the subject line and need not be submitted in triplicate. Comments sent via the Internet as attached electronic files must be formatted in Microsoft Word 97 or 2000 or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Keith Ladderud, Aerospace Engineer, Cabin Safety and Environmental Systems Branch, ANM-150S, FAA, Seattle Aircraft Certification Office, 1601 Lind Avenue, SW., Renton, Washington 98055-4056; telephone (425) 917-6435; fax (425) 917-6590.

SUPPLEMENTARY INFORMATION: The FAA has received reports that the shoulder restraint harness of the attendant or observer seat detached from the mounting bracket during service on two Boeing Model 737-300 series airplanes. In the reported incidents, the restraint harness was attached to the mounting bracket with a C-clip. Such detachment of the shoulder restraint harness from its mounting bracket during service, if not corrected, could result in injury to the occupant of the seat.

Similar Model Airplanes

The shoulder restraint harness installations on Boeing Model 737-300 series airplanes are identical to those on certain Boeing Model 747SP and 747SR; 747-100B, -200B, -200C, -200F, -300, -400, and -400D; and 767-200 and -300 series airplanes. Therefore, the shoulder restraint harnesses on these models may have a C-clip installed and thus be subject to the same unsafe condition.

Related Rulemaking

On November 16, 2001, the FAA issued AD 2001-24-02 (66 FR 59681, November 30, 2001), which is applicable to certain Boeing Model 707-100, -100B, -300, and -E3A (military airplanes); 727-100 and -200; 737-200, -200C, -300, -400, and -500; 747SP and 747SR; 747-100B, -200B, -200C, -200F, -300, -400, and -400D; 757-200 and -200PF; and 767-200 and -300 series airplanes. That AD requires inspection of the attachment of the shoulder restraint harness to the mounting bracket on certain observer and attendant seats to determine if a C-clip is used in the attachment, and corrective action, if necessary. That action is necessary to prevent detachment of the shoulder restraint harness of the attendant or observer seat from its mounting bracket during service, which could result in injury to the occupant of the seat.

Since the Issuance of That AD

Since the issuance of that AD, the FAA has determined that the same unsafe condition addressed in that AD may exist on an additional 21 Model 747SP and 747SR, 747-100B, -200B, -200C, -200F, -300, -400, and -400D series airplanes; and an additional 23 Model 767-200 and -300 series airplanes. None of the additional airplanes are on the U.S. registry.

Explanation of Relevant Service Information

The FAA has reviewed and approved Boeing Special Attention Service Bulletin 747-25-3244, Revision 4, dated June 26, 2003; and Boeing Service Bulletin 767-25-0288, Revision 3, dated August 1, 2002. Those service bulletins describe procedures for a one-time inspection of the attachment of the shoulder restraint harness of certain attendant or observer seats to the mounting bracket to determine if a C-clip is used in the attachment. If the shoulder restraint harness is looped through the bracket and attached to itself with a C-clip, the service bulletins provide two alternative methods for correcting this condition. One method instructs operators to attach the shoulder restraint harness directly to the mounting bracket by removing and discarding the C-clip, removing the mounting bracket, putting the mounting bracket through the loop of the shoulder harness, and attaching the mounting bracket in its original position. The service bulletin also describes a second method to correct the condition that involves installation of a second C-clip with the clip's opening positioned in the opposite direction of the opening of the existing C-clip. The service bulletins also revise the effectivity by adding certain airplanes and removing certain other airplanes. Accomplishment of either of the methods described in the service bulletins is intended to adequately address the identified unsafe condition.

Explanation of Requirements of the Rule

Since an unsafe condition has been identified that is likely to exist or develop on other airplanes of the same type design that may be registered in the United States at some time in the future, this AD is being issued to prevent detachment of the shoulder restraint harness of the attendant or observer seat from its mounting bracket during service, which could result in injury to the occupant of the seat. This AD requires inspection of the attachment of the shoulder restraint harness to the mounting bracket on certain observer and attendant seats to determine if a C-clip is used in the attachment, and corrective action, if necessary. The actions are required to be accomplished in accordance with the service bulletins described previously, except as discussed below.

Differences Between the Service Bulletins and This AD

Operators should note that, although the service bulletins recommend accomplishing the inspection “at the next scheduled maintenance period when manpower and equipment are available,” the FAA has determined that such an indefinite compliance time would not address the identified unsafe condition in a timely manner. In developing an appropriate compliance time for this AD, the FAA considered not only the manufacturer's recommendation, but the degree of urgency associated with addressing the subject unsafe condition, the average utilization of the affected fleet, and the time necessary to perform the required actions. In light of all of these factors, the FAA finds a 36-month compliance time for initiating the required actions to be warranted, in that it represents an appropriate interval of time allowable for affected airplanes to continue to operate without compromising safety.

In addition, the service bulletins do not identify the type of inspection that is involved in the procedures for inspecting the attachment of the shoulder restraint harness to determine if a C-clip is used. The FAA refers to this inspection in this AD as a “general visual” inspection.

Changes to 14 CFR part 39/Effect on the AD

On July 10, 2002, the FAA issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require between 1 hour and 5 hours (depending on the number of attendant/observer seats installed on the airplane) to accomplish the inspection, at an average labor rate of $65 per work hour. Based on these figures, the cost impact of this AD would be between $65 and $325 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-106-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-20-08 Boeing: Amendment 39-13326. Docket 2002-NM-106-AD.

Applicability: Airplanes, certificated in any category, as listed in Table 1 of this AD below:

Table 1.—Applicability
Models and series | As listed in the following Boeing Service Bulletins
Model 747SR and 747SP, and 747-100B, -200B, -200C, -200F, -300, -400, and -400D | 747-25-3244, Revision 4, dated June 26, 2003.
Model 767-200 and -300 | 767-25-0288, Revision 3, dated August 1, 2002.

Compliance: Required as indicated, unless accomplished previously.

To prevent detachment of the shoulder restraint harness of the attendant or observer seat from its mounting bracket during service, which could result in injury to the occupant of the seat, accomplish the following:

Inspection and Corrective Action

(a) Within 36 months after the effective date of this AD, do a one-time general visual inspection of the attachment of the shoulder restraint harness of each observer or attendant seat to determine if a C-clip is used in the attachment. Do the inspection according to Boeing Service Bulletin 747-25-3244, Revision 4, dated June 26, 2003; or Boeing Special Attention Service Bulletin 767-25-0288, Revision 3, dated August 1, 2002; as applicable. If the shoulder harness is looped through the bracket and attached to itself with a C-clip, do paragraph (a)(1) or (a)(2) of this AD.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) Remove and discard the C-clip, and reattach the shoulder harness to the mounting bracket, according to the service bulletin.

(2) Install a second C-clip with the clip's opening positioned in the opposite direction of the opening of the existing C-clip, according to the optional method described in Steps 19 and 20 of Figure 1 or 2 of the applicable service bulletin.

Acceptable for Compliance

(b) Removing and discarding the C-clip and reattaching the shoulder harness to the mounting bracket; according to Boeing Service Bulletin 747-25-3244, Revision 1, dated May 17, 2001, Revision 2, dated April 4, 2002, or Revision 3, dated August 1, 2002; Boeing Service Bulletin 767-25-0288, Revision 1, dated May 17, 2001, or Revision 2, dated April 4, 2002; as applicable; is acceptable for compliance with the requirements of paragraph (a)(1) of this AD.

Parts Installation

(c) As of the effective date of this AD, do not attach the shoulder restraint harness of an observer or attendant seat on any airplane to the mounting bracket using a C-clip, unless the required actions specified in paragraph (a)(2) of this AD are done.

Alternative Methods of Compliance

(d) In accordance with 14 CFR 39.19, the Manager, Seattle Aircraft Certification Office, FAA, is authorized to approve alternative methods of compliance for this AD.

Incorporation by Reference

(e) Unless otherwise specified in this AD, the actions shall be done in accordance with Boeing Service Bulletin 747-25-3244, Revision 4, dated June 26, 2003; or Boeing Special Attention Service Bulletin 767-25-0288, Revision 3, dated August 1, 2002; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on October 21, 2003.

Issued in Renton, Washington, on September 26, 2003.
Ali Bahrami,
Acting Manager, Transport Airplane Directorate, Aircraft Certification Service.

[FR Doc. 03-24976 Filed 10-3-03; 8:45 am]

BILLING CODE 4910-13-P